DEPARTMENT OF DEFENSE

Office of the Secretary

Science and Technology Reinvention Laboratory Personnel Management Demonstration Project, Department of the Army, Army Research, Development and Engineering Command, Edgewood Chemical Biological Center (ECBC)

AGENCY: Office of the Deputy Under Secretary of Defense (Civilian Personnel Policy), (DUSD (CPP)), Department of Defense (DoD).

ACTION: Notice to make changes to the ECBC Federal Register notice, published on December 29, 2009 (74 FR 68936-68966).

SUMMARY: Section 342(b) of the National Defense Authorization Act (NDAA) for Fiscal Year (FY) 1995, as amended by section 1109 of NDAA FY 2000 and section 1114 of NDAA FY 2001, authorizes the Secretary of Defense to conduct personnel demonstration projects at Department of Defense (DoD) laboratories designated as Science and Technology Reinvention Laboratories (STRLs). The above-cited legislation authorizes DoD to conduct demonstration projects to determine whether a specified change in personnel management policies or procedures would result in improved Federal personnel management. This notice makes changes to the ECBC Personnel Management Demonstration Project. It includes revisions to the annual review for supervisory/team leader base pay adjustments and adds clarification of the waiver to 5 U.S.C. 7512(4), amends procedures for recruiting and filling positions above the minimum of the pay band; and eliminates within grade increase (WGI) buy-ins for certain personnel actions.

DATES: This notice may be implemented beginning on the date of publication.

FOR FURTHER INFORMATION CONTACT: ECBC: Ms. Patricia Milwicz, Edgewood Biological Chemical Center, (RDCB-DPC-W), 5183 Blackhawk Road, Building 3330, Room 264, Aberdeen Proving Ground, MD 21010-5424; Patricia.L.Milwicz.civ@mail.mil. DoD: Mr. William T. Cole, Defense Civilian Personnel Advisory Services, Non-Traditional Personnel Programs (DCPAS-NTPP), 4800 Mark Center Drive, Suite 05L28, Alexandria, VA 22350-1100; William.Cole@cpms.osd.mil.

SUPPLEMENTARY INFORMATION:

1. Background

The final plan for the ECBC personnel demonstration project was published in the Federal Register on December 29, 2009 (74 FR 68936-68966). The ECBC demonstration project involves: (1) Two appointment authorities (permanent and modified term); (2) extended probationary period for newly hired engineering and science employees; (3) pay banding; (4) streamlined delegated examining; (5) modified reduction-in-force (RIF) procedures; (6) simplified job classification; (7) a pay-for-performance based appraisal system; (8) academic degree and certificate training; (9) sabbaticals; and (10) a Voluntary Emeritus Corps.

2. Overview

With over one year of implementation experience, ECBC has recognized the need for several changes to the original project plan. This amendment addresses those changes and adds clarification of the waiver to 5 U.S.C. chapter 75, section 7512(4). There are three changes being made to the final project plan published December 29, 2009. First, the supervisory/team leader pay adjustments are currently reviewed annually based solely on the appraisal scores for the performance element, Team Project Leadership or Supervisor (EEO). During the annual review, this change incorporates the original criteria used during the pay adjustment approval process as well as the appraisal scores for the performance element Team Project Leadership or Supervisor (EEO). Decreases in the supervisory/team leader pay adjustments can be for any amount (including the full amount) of the current supervisory/team leader pay adjustment and will not be considered an adverse action. Second, during the hiring process, qualifications required for all positions are currently tied to the lowest level of the pay band. This change allows for hiring in the middle or higher end of the pay band for those positions that warrant experience and/or skills in the intermediate or journeyman level of the pay band. And third, the within-grade buy-in is currently provided for employees who enter the demo by lateral transfer, reassignment, or realignment. This change will eliminate the within-grade buy-in for those employees as other pay flexibilities already in place allow for other compensation options.

3. Access to Flexibilities of Other STRLs

Flexibilities published in this Federal Register shall be available for use by all STRLs listed in 5 U.S.C. 9902(c)(2), if they wish to adopt them in accordance with DoD Instruction 1400.37 (available at http://www.dtic.mil/whs/directives/corres/pdf/140037p.pdf); 73 FR 73248-73252, December 2, 2008; and the fulfilling of any collective bargaining agreements.

I. Executive Summary

The STRL personnel management demonstration projects are generally similar in nature to the first personnel demonstration project at Department of the Navy's China Lake. The ECBC personnel demonstration project is built upon the concepts of broad-banded pay systems and simplified classification; pay for performance; recruitment and staffing changes; enhanced training and development; a Voluntary Emeritus Corps; and sabbaticals. The purpose of the project is to achieve the best workforce for the ECBC mission and improve workforce quality.

II. Introduction

A. Purpose

The purpose of this notice is to amend the Federal Register, Department of Defense, Science and Technology Reinvention Laboratory Personnel Management Demonstration Project, Department of the Army, Army Research, Development and Engineering Command, Edgewood Chemical Biological Center (ECBC), December 29, 2009 (74 FR 68936-68966) as follows:

1. Under, Part III. Personnel Changes, D. Hiring Authority, 1. Qualifications, on page 68950, in the third column, replace first paragraph as follows:

“The qualifications required for placement into a position in a pay band within an occupational family will be determined using the OPM Operating Manual for Qualification Standards for GS Positions. Since the pay bands are anchored to GS grade levels, the minimum qualification requirements will be no lower than the requirements corresponding to the lowest GS grade level incorporated into that pay band. Specific experience and/or education required will be determined based on whether a position to be filled is at the lower, middle, or higher end of the pay band. For example, for a position in the E&S occupational family, Pay Band II individuals must meet the basic requirements for a GS-5 as specified in the OPM Qualification Standard for Professional and Scientific Positions. However, in situations where management determines the position must be filled at the middle or higher end of the band, individuals will be required to meet specific experience and/or educational requirements that exceed the minimum qualifications. This information will be clearly stated within the vacancy announcement.”

2. Under, Part III. Personnel Changes, F. Pay Setting, 7. Supervisory and Team Leader Pay Adjustments, on page 68954, in the second column, in the last paragraph, the first, second and third sentences are replaced as follows: “The supervisory/team leader pay adjustment will be reviewed annually and may be increased or decreased by a portion or by the entire amount of the supervisory/team leader pay adjustment based upon the employee's performance appraisal score for the performance element, Team Project Leadership or Supervision/EEO and/or criteria outlined above. If the entire portion of the supervisory/team leader pay adjustment is to be decreased, the initial dollar amount of the supervisory/team leader pay adjustment will be removed. A decrease to the supervisory/team leader pay adjustment as a result of the annual review or when an employee voluntarily leaves a position is not an adverse action and is not subject to appeal.”

3. Under Part V. Conversion, on page 68957, in the third column, A. Conversion to the Demonstration Project, remove third paragraph: “Employees who enter the demonstration project later by lateral transfer, reassignment or realignment will be subject to the same pay conversion rules. If conversion into the demonstration project is accompanied by a geographic move, the employee's GS pay entitlements in the new geographic areas must be determined before performing the pay conversion.”

4. Under, Part IX. Required Waivers to Law and Regulation, on page 68961, A. Waivers to Title 5, U.S.C., chapter 75, section 7512(4), in the third column, Adverse actions. Add the following to the last sentence continued on page 68962, first column: “Or (3) decreases in the amount of a supervisory or team leader pay adjustment during the annual review process.”

B. Employee Notification

Demonstration project policies and procedures are posted on the internal network. ECBC employees receiving a supervisory or team leader pay adjustment will sign a statement of understanding acknowledging that adverse action provisions do not apply to decreases in the amount of a supervisory or team leader pay adjustment based on the annual review.

Dated: May 28, 2013.
Aaron Siegel,
Alternate OSD Federal Register Liaison Officer, Department of Defense.

[FR Doc. 2013-12930 Filed 5-30-13; 8:45 am]

BILLING CODE 5001-06-P